DEPARTMENT OF DEFENSE

Office of the Secretary

[Docket ID: DoD-2013-OS-0003]

Privacy Act of 1974; System of Records

AGENCY: Defense Intelligence Agency, DoD.

ACTION: Notice to alter a System of Records.

SUMMARY: The Defense Intelligence Agency is proposing to alter a system to its existing inventory of records systems subject to the Privacy Act of 1974 (5 U.S.C. 552a), as amended.

DATES: This proposed action will be effective on February 28, 2013 unless comments are received which result in a contrary determination. Comments will be accepted on or before February 27, 2013.

ADDRESSES: You may submit comments, identified by docket number and title, by any of the following methods:

* Federal Rulemaking Portal: http://www.regulations.gov. Follow the instructions for submitting comments.

* Mail: Federal Docket Management System Office, 4800 Mark Center Drive; East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Theresa Lowery at Defense Intelligence Agency, DAN 1-C, 600 MacDill Blvd., Washington, DC 20340-0001 or by phone at (202) 231-1193.

SUPPLEMENTARY INFORMATION: The Defense Intelligence Agency system of records notices subject to the Privacy Act of 1974 (5 U.S.C. 552a), as amended, have been published in the Federal Register and are available from the address in FOR FURTHER INFORMATION CONTACT.

The proposed system report, as required by 5 U.S.C. 552a of the Privacy Act of 1974, as amended, was submitted on January 4, 2013, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: January 7, 2013.
Aaron Siegel,
Alternate OSD Federal Register Liaison Officer, Department of Defense.

LDIA 0450

System name:

Drug-Free Workplace Files (September 9, 2009, 74 FR 46418).

Changes:

* * * * *

System name:

Delete entry and replace with “Drug Testing Program Files.”

System location:

Delete entry and replace with “Defense Intelligence Agency, 200 MacDill Blvd., Washington, DC 20340-0001.”

Categories of individuals covered by the system:

Delete entry and replace with “Civilian employees and applicants for employment with the Defense Intelligence Agency.”

Categories of records in the system:

Delete entry and replace with “Name, specimen identification number, truncated Social Security Number (SSN) and records relating to testing plans, procedures, selection/scheduling records, records relating to the collection and handling of specimens, chain of custody records and test results.”

Authority for maintenance of the system:

Delete entry and replace with “E.O. 12564, Federal Drug Free Workplace; DoD Directive 1010.9 Civilian Employee Drug Abuse Testing Program; DIA Instruction 1015.001, Drug Free Workplace Program and E.O. 9397 (SSN), as amended.”

Purpose(s):

Delete entry and replace with “The system is used to maintain records relating to the implementation of the Drug Testing Program; administration, selection, notification and testing of DIA employees and applicants for employment.”

Routine uses of records maintained in the system, including categories of users and the purposes of such uses:

Delete entry and replace with “In addition to those disclosures generally permitted under 5 U.S.C. 552a(b) of the Privacy Act of 1974, as amended, these records contained therein may specifically be disclosed outside the DoD as a routine use pursuant to 5 U.S.C. 552a(b)(3) as follows:

The DoD Blanket Routine Uses set forth at the beginning of the DIA's compilation of systems of records notices may apply to this system.”

Policies and practices for storing, retrieving, accessing, retaining, and disposing of records in the system:

Storage:

Delete entry and replace with “Paper records and electronic storage media.”

* * * * *

Retention and disposal:

Delete entry and replace with “Records relating to specific cases are destroyed two years after close of case. Records relating to selection, scheduling, unaccepted applicants, negative results, and other supporting data are maintained for three years after end of event, or end of employment. Records related to administration or program planning are destroyed after three years or when superseded or obsolete. Paper records are shredded or burned, electronic records are deleted from the system.”

System manager(s) and address:

Delete entry and replace with “Chief, Office of Employee Assistance, Defense Intelligence Agency 200 MacDill Blvd., Washington, DC 20340-0001.”

Notification procedure:

Delete entry and replace with “Individuals seeking to determine whether information about themselves is contained in this system of records should address written inquiries to the DIA Freedom of Information Office (DAN-1A), Defense Intelligence Agency, 200 MacDill Blvd., Washington, DC 20340-5100.

Request should contain the individual's full name, current address, and telephone number.”

Record access procedures:

Delete entry and replace with “Individuals seeking access to information about themselves contained in this system of records should address written inquiries to the DIA Freedom of Information Office (DAN-1A), 200 MacDill Blvd., Washington, DC 20340-5100.

Request should contain the individual's full name, current address, and telephone number.”

Contesting record procedures:

Delete entry and replace with “DIA's rules for accessing records, for contesting contents and appealing initial agency determinations are published in DIA Instruction 5400.001, Defense Intelligence Agency Privacy Program; or may be obtained from the system manager.”

* * * * *

[FR Doc. 2013-01686 Filed 1-25-13; 8:45 am]

BILLING CODE 5001-06-P